DEPARTMENT OF STATE

[Public Notice: 6125]

30-Day Notice of Proposed Information Collection: Form DS-4071, Export Declaration of Defense Technical Data or Services; OMB Control Number 1405-0157.

ACTION: Notice of request for public comment and submission to OMB of proposed collection of information.

SUMMARY: The Department of State has submitted the following information collection request to the Office of Management and Budget (OMB) for approval in accordance with the Paperwork Reduction Act of 1995.

• Title of Information Collection: Export Declaration of Defense Technical Data or Services.

• OMB Control Number: 1405-0157.

• Type of Request: Extension of Currently Approved Collection.

• Originating Office: Bureau of Political-Military Affairs, Directorate of Defense Trade Controls, PM/DDTC.

• Form Number: DS-4071.

• Respondents: Business and Nonprofit Organizations.

• Estimated Number of Respondents: 2,000.

• Estimated Number of Responses: 10,000.

• Average Hours per Response: 30 minutes.

• Total Estimated Burden: 5,000 hours.

• Frequency: On Occasion.

• Obligation to Respond: Mandatory.

DATES: Submit comments to the Office of Management and Budget (OMB) for up to 30 days from March 7, 2008.

ADDRESSES: Direct comments and questions to Katherine Astrich, the Department of State Desk Officer in the Office of Information and Regulatory Affairs at the Office of Management and Budget (OMB), who may be reached at 202-395-4718. You may submit comments by any of the following methods:

• kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the information collection and supporting documents, to Ann K. Ganzer, PM/DDTC, SA-1, 12th Floor, Directorate of Defense Trade Controls, Bureau of Political-Military Affairs, U.S. Department of State, Washington, DC 20522-0112, who may be reached via phone at (202) 663-2792, or via e-mail at ganzerak@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Actual export of defense technical data and defense services will be electronically reported directly to the Directorate of Defense Trade Controls (DDTC). DDTC administers the International Traffic in Arms Regulations (ITAR) and section 38 of the Arms Export Control Act (AECA). The actual exports must be in accordance with requirements of the ITAR and section 38 of the AECA. DDTC will monitor the information to ensure there is proper control of the transfer of sensitive U.S. technology.

Methodology: The exporter will electronically report directly to DDTC the actual export of defense technical data and defense services using DS-4071. DS-4071 is available on DDTC's Web site, http://www.pmddtc.state.gov.

Dated: February 28, 2008.
Frank J. Ruggiero,
Deputy Assistant Secretary for Defense Trade and Regional Security, Bureau of Political-Military Affairs, U.S. Department of State.

[FR Doc. E8-4511 Filed 3-6-08; 8:45 am]

BILLING CODE 4710-25-P